DEPARTMENT OF COMMERCE

National Oceanic and Atmospheric Administration

[I.D. 041403C]

Proposed Information Collection; Comment Request; Southwest Region Logbook Family of Forms.

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 16, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Alvin Katekaru, 808-973-2935, ext. 2072937, or at Alvin.Katekaru@noaa.gov.

SUPPLEMENTARY INFORMATION:

I. Abstract

Participants in Federally-managed fisheries in the western Pacific are required to provide certain information about their fishing activities. These can include logbooks, notifications, and other requirements, as well as use of a Vvessel monitoring system (VMS). The information is needed for the management of the fisheries.

II. Method of Collection

Reports from a Vessel Monitoring SystemVMS are automatic and electronic. Pre-landing and pre-offloading notifications are made by phone or FAX. Other submissions are made in paper form.

III. Data

OMB Number: 0648-0214.

Form Number: None.

Type of Review: Regular submission.

Affected Public: Business or other for-profit organizations, individuals or households.

Estimated Number of Respondents: 162.

Estimated Time Per Response: 5.25 minutes per day for a logbook in Pacific Ppelagic fisheries (unless otherwise noted); 5 minutes per report for logbooks in the western Pacific Ccrustacean or pelagic toll or handline (in the Pacific remote islands area) fisheries; 7 minutes per day for a logbook in the western Pacific Pprecious Ccoral fishery; 5 minutes per report for a pelagic longline transhipment logbook; 5 minutes for a crustacean sales report in a logbook; 3 minutes for an at-sea crustacean catch report; 3 minutes for a crustacean pre-trip or pre-offloading notice; 1 hour per longline observer placement meeting; 4 hours for a claim of lost longline fishing time; 5 minutes for a report on lobster trapsgear left at sea; 5 minutes for a precious corals sales report; 2 hours for a protected species interaction report in the Northwestern Hawaiian Islands (NWHI) bottomfish fishery; 3 minutes for a NWHI lobster pre-season Vessel Monitoring System (VMS) report; 4 hours for installation of a VMS unit in Hawaii-based longline fishery; 2 hours for annual maintenance of a VMS unit in the Hawaii longline fishery; 24 seconds a day for automated VMS position reports from the Hawaii longline area closures; 4 hours for an experimental fishing report; 5 minutes for a pelagic management unit species dealer report; 24 seconds/day for notification of entry to/exit from a protected species zone[automated position report via a VMS]; 30 minutes for a request for longline closed area exemption; 5 minutes for crustacean dealer packing, weigh-out slips, and records; 3 minutes for a NWHI bottomfish fishery pre-trip notification; and 3 minutes for a NWHI bottomfish pre-landing notification.

Estimated Total Annual Burden Hours: 2,339.

Estimated Total Annual Cost to Public: $3,293.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 10, 2003.
Gwellnar Banks,
Management Analyst, Office of the Chief Information Officer.

[FR Doc. 03-9489 Filed 4-16-03; 8:45 am]

BILLING CODE 3510-22-S